DEPARTMENT OF ENERGY

Federal Energy Regulatory Commission

Notice of Commissioner and Staff Attendance at National Association of Regulatory Utility Commissioners Winter Committee Meetings

The Federal Energy Regulatory Commission (FERC or Commission) hereby gives notice that members of the Commission and/or Commission staff may attend the following meeting:

FERC/National Association of Regulatory Utility Commissioners Sunday Morning Collaborative

February 3, 2013 (8:30 a.m.-11:45 a.m.)

Renaissance Washington Hotel, 999 Ninth Street NW., Washington, DC 20001.

Further information may be found at http://winter.narucmeetings.org/program.cfm.

The discussions at this meeting, which is open to the public, may address matters at issue in the following Commission proceedings:

Docket No. ER13-414, East Kentucky Power Cooperative, Inc.

Docket No. ER13-478, East Kentucky Power Cooperative, Inc.

Docket No. ER13-708, Midwest Independent Transmission System Operator, Inc.

Dated: January 28, 2013.
Kimberly D. Bose,
Secretary.

[FR Doc. 2013-02239 Filed 2-1-13; 8:45 am]

BILLING CODE 6717-01-P